DEPARTMENT OF THE INTERIOR

Bureau of Land Management

[NV-025-5105-NX-SF13; Special Recreation Permit #NV-025-06-01]

Notice to the Public of Temporary Public Lands Closures and Prohibitions of Certain Activities on Public Lands Administered by the Bureau of Land Management (BLM), Winnemucca Field Office, NV

AGENCY: Bureau of Land Management, Interior.

ACTION: Notice of temporary closure.

SUMMARY: Certain lands located in northwestern Nevada partly within the Black Rock Desert-High Rock Canyon Emigrant Trails National Conservation Area will be temporarily closed or restricted and certain activities will be temporarily prohibited in and around the site of the Burning Man event administered by the BLM Winnemucca Field Office in Pershing County, Nevada. These lands are referred to in this notice as the “Event Area” and the “Public Closure Area,” respectively. The specified closures, restrictions and prohibitions are made in the interest of public safety, to protect public resources, and to enable BLM law enforcement personnel to support State and local law enforcement agencies with enforcement of the law. The Burning Man event is authorized on public lands under a special recreation permit and is expected to attract approximately 40,000 participants this year.

DATES: From August 10, 2007 through September 17, 2007, inclusive, closures and restrictions affecting the following uses in the Public Closure and Event Area will occur: Public uses, public camping, aircraft landing, possession of alcohol by minors or open containers in vehicles, possession of firearms, discharge of weapons, procedures and circumstances for eviction of persons from public lands, waste water discharge, motor vehicle use, possession or use of fireworks, and ignition of fires. The timing and location of the uses prohibited and/or regulated are more fully set forth herein.

FOR FURTHER INFORMATION CONTACT: Dave Cooper, National Conservation Area Manager, Bureau of Land Management, Winnemucca Field Office, 5100 E. Winnemucca Blvd., Winnemucca, NV 89445-2921, telephone: (775) 623-1500.

SUPPLEMENTARY INFORMATION: These closures are authorized under the provisions of the Federal Land Policy and Management Act of 1976, 43 U.S.C. 1701 et seq. In accordance with the applicable provisions of 43 U.S.C. 1733 any person failing to comply with the closure orders may be subject to imprisonment for not more than 12 months, or a fine in accordance with the applicable provisions of 18 U.S.C. 3571, or both.

1. The public closure area is located within the following legally described locations:

Mount Diablo Meridian

Unsurveyed T. 33 N., R. 24 E.,

Secs. 1 and 2, portion west of the east playa road;

Sec. 3;

Sec. 4, portion east of Washoe Co. Rd. 34;

Sec. 5, E½, portion east of Washoe Co. Rd. 34;

Sec. 10, N½;

Sec. 11; E½, portion west of the east playa road.

Unsurveyed T. 33½ N., R. 24 E.,

Secs. 25 and 26;

Sec. 28, portion east of the west playa road;

Sec. 33, portion east of Washoe Co. Rd. 34 and east of the west playa road;

Secs. 34, 35 and 36.

Unsurveyed T. 34 N., R. 24 E.,

Sec. 34, S½, portion east of the west playa road;

Sec. 35, portion east of the west playa road;

Sec. 36;

T. 33 N., R. 25 E.,

Sec. 4, Lots 3, 4 and 5; portions west of the east playa road.

Unsurveyed T. 34 N., R. 25 E.,

Sec. 33, SW¼.

1.1. Between August 10, 2007 and September 17, 2007 inclusive:

1.1.1. Public Use

Public use is prohibited except as provided within the event area as described below.

1.1.2. Public Camping

Public camping is prohibited except as provided within the event area as described below.

1.1.3. Aircraft Landing

Aircraft as defined in Title 18, U.S.C., section 31 (a)(1) and includes lighter-than-air craft, ultra-light craft, and remotely controlled powered craft are prohibited from landing, taking off, or taxiing. The following exceptions apply:

• Aircraft operations conducted through the authorized event landing strip and such ultra-light and helicopter take-off and landing areas designated for Burning Man event staff and participants, law enforcement, and emergency medical services.

• Emergency aircraft such as Care Flight, Sheriff's Office, or Medical Ambulance Transport System helicopters engaged in official business may land in other locations when circumstances require it.

• Landings or take-offs of lighter-than-air craft previously approved by the BLM authorized officer.

1.1.4. Possession of Alcohol

• Possession of an open container of an alcoholic beverage by the driver or operator of any motorized vehicle, whether or not the vehicle is in motion is prohibited.

• Definitions:

○ Open container—any bottle can or other container which contains an alcoholic beverage, if that container does not have a closed top or lid for which the seal has not been broken. If the container has been opened one or more times, and the lid or top has been replaced, that container is an open container.

○ Possession of an open container—includes any open container which is physically possessed by the driver or operator, or which is adjacent to and reachable by that driver or operator. This includes containers in a cup holder or rack adjacent to the driver or operator, containers on a vehicle floor next to the driver or operator, and containers on a seat or console area next to a driver or operator.

• Possession of alcohol by minors is prohibited.

○ The following are prohibited:

▪ Consumption or possession of any alcoholic beverage by a person under 21 years of age on public lands.

▪ Selling, offering to sell, or otherwise furnishing or supplying any alcoholic beverage to a person under 21 years of age on public lands.

○ This section does not apply to the selling, handling, serving or transporting of alcoholic beverages by a person in the course of his lawful employment by a licensed manufacturer, wholesaler or retailer of alcoholic beverages.

1.1.5. Weapons

Discharge and possession of firearms is prohibited. Law enforcement officers acting in their official capacity are exempted from the prohibition.

1.1.6. Eviction of Persons From Public Closure Area

The permitted event area and all other parts of the public closure area are closed to any person who:

a. Has been evicted from the event by the permit holder, Black Rock City LLC, whether or not such eviction was requested by BLM.

b. Has been ordered by a BLM law enforcement officer to leave the area of the permitted event.

Any person evicted from the event forfeits any privileges to be present within the perimeter fence or anywhere else within the public closure area even if they possess a ticket to attend the event.

Permit holder BRC LLC and BLM law enforcement officers may evict event ticket holders for “just cause” and the event ticket holder must immediately depart from the event public closure area and not return to the event public closure area during the closure period.

Just cause includes, but is not limited to:

a. Repeated violations of any permit stipulations, closure orders or regulations in Title 43 CFR;

b. Commission of an assault, fight, threatening, menacing, or similar conduct that is likely to inflict injury or incite an immediate breach of the peace;

c. Possession of prohibited weapons;

d. Persons returning to the event after they have been arrested by an event law enforcement officer, transported to a jail facility and released from custody on bail. (Note: persons returning after being arrested and released will be allowed to re-enter event only to obtain personal property under the escort of law enforcement officers and/or BRC LLC staff.)

e. Persons cited and released for a criminal offense by BLM and/or the Pershing County Sheriff's Office (PCSO) whose identity information received from the subject cannot be verified through personal possession of ID/documents, identity data base checks or telephonic verification from a credible person not at the event.

1.1.7. Waste Water Discharge

Dumping wastewater (grey or black) is prohibited.

1.2. Between August 24, 2007 and September 3, 2007 inclusive:

1.2.1. Public Camping

Public camping is prohibited. Burning Man event ticket holders and BLM authorized event management-related camps within the event area as described below are exempt from the camping closure.

1.2.2. Motorized Vehicles

Motor vehicle use is prohibited. The following exceptions apply: participant arrival and departure on designated routes; vehicles registered with Burning Man; Black Rock City LLC staff and support; BLM, medical, law enforcement, and firefighting vehicles; and motorized skateboards and scooters with or without handlebars.

Vehicles must be registered with Black Rock City LLC and drivers must display evidence of registration at all times. Such registration must be displayed so that it is visible to the rear of the vehicle while it is in motion.

Vehicle use that creates a dust plume higher than the top of the vehicle is prohibited.

1.2.3. Fireworks

The use, sale or possession of personal fireworks within the public closure area is prohibited.

The following exceptions apply: Uses of fireworks approved by Black Rock City LLC and used as part of an official Burning Man art burn event.

1.2.4. Fires

The ignition of fires on the surface of the Black Rock Playa without a burn blanket or burn pan is prohibited. The following exceptions apply: Registered Burning Man art burn events, licensed mutant vehicles, and portable barbeques, grills or elevated torches or lanterns.

2. The Event Area is located within the following legally described locations:

Mount Diablo Meridian

Unsurveyed T. 33 N., R. 24 E.,

Secs. 1 and 2; the area within the event perimeter fence, within 50 yards outside the fence, and the aircraft parking area;

Sec. 3, the area within the event perimeter fence, within 50 yards outside the fence, and within 50 yards of the event entrance road;

Unsurveyed T. 33½ N., R. 24 E.,

Secs. 25, 26 and 27, areas within the event perimeter fence and within 50 yards outside the fence;

Sec. 34, areas within the event perimeter fence and within 50 yards outside the fence;

Sec. 35;

Sec. 36, areas within the event perimeter fence and within 50 yards outside the fence.

Unsurveyed T. 34 N., R. 24 E.,

Secs. 34, 35 and 36, areas within the event perimeter fence and within 50 yards outside the fence.

2.1. Between August 10, 2007 and August 25 and between September 4 and September 17, 2007 inclusive:

2.1.1. Camping

Public camping is prohibited. Black Rock City LLC authorized staff, contractors, and others authorized to assist with construction or clean-up of art exhibits and theme camps are exempt from the camping closure.

2.2. Between August 24, 2007 and September 3, 2007 inclusive:

2.2.1. Public Use

No person shall be present within the event area unless that person: possesses a valid ticket to attend the event; is an employee or authorized volunteer with the BLM, a law enforcement agency, emergency medical service provider, fire protection provider, or another public agency working at the event and the employee is assigned to the event; or is a person working at or attending the event on behalf of the event organizers, BRC LLC.

2.2.2. Weapons

Possession of weapons is prohibited, subject to the following exceptions: County, state, tribal and federal law enforcement personnel, or any person authorized by federal law to possess a weapon.

“Weapon” means a firearm, compressed gas or spring powered pistol or rifle, bow and arrow, cross bow, blowgun, spear gun, hand throwable spear, sling shot, irritant gas device, explosive device or any other implement designed to discharge missiles, and includes any weapon the possession of which is prohibited by state law.

2.2.3. Public Camping

Public camping is prohibited. Burning Man event ticket holders who are camped in designated areas provided by Black Rock City LLC and ticket holders who are camped in the authorized “pilot camp” and BLM authorized event management-related camps are exempt from the camping closure. Black Rock City LLC authorized staff, contractors, and other authorized participants are exempt from the camping closure.

Dated: July 23, 2007.
Gail G. Givens,
Field Manager.

[FR Doc. E7-15616 Filed 8-9-07; 8:45 am]

BILLING CODE 4310-HC-P